DEPARTMENT OF THE TREASURY

Internal Revenue Service

26 CFR Part 1

[TD 9210]

RIN 1545-BE75

LIFO Recapture Under Section 1363(d); Correction

AGENCY: Internal Revenue Service (IRS), Treasury.

ACTION: Correction to final regulations.

SUMMARY: This document contains a correction to final regulations that were published in the Federal Register on July 12, 2005 (70 FR 39920) regarding the LIFO recapture by corporations converting from C Corporations to S Corporations.

DATES: This correction is effective July 12, 2005.

FOR FURTHER INFORMATION CONTACT: Pietro Canestrelli, at (202) 622-3060 and Martin Schaffer, at (202) 622-3070 (not toll-free numbers).

SUPPLEMENTARY INFORMATION:

Background

The correction notice that is the subject of this document is under section 1363 of the Internal Revenue Code.

Need for Correction

As published, the correction notice (TD 9210), contains an error that may prove to be misleading and is in need of clarification.

Correction of Publication

Accordingly, the correction notice (TD 9210), which was the subject of FR Doc. 05-13383, is corrected as follows:

On page 39920, column 3, in the preamble, under the paragraph heading “Summary of Comments and Explanation of Revisions” first paragraph, lines 23 through 25, the language “corporation, the date of recapture event is a transfer of a partnership interest to an S corporation, the date of the transfer” is corrected to read as “corporation, the date of the transfer”.

Guy Traynor,
Acting Chief, Publications and Regulations Branch, Legal Processing Division, Associate Chief Counsel, (Procedures and Administration).

[FR Doc. 05-15762 Filed 8-10-05; 8:45 am]

BILLING CODE 4830-01-P